DEPARTMENT OF ENERGY

Orders Granting Authority To Import and Export Natural Gas, To Import and Export Liquefied Natural Gas, Amending Authorization, and Errata During January 2015

AGENCY: Office of Fossil Energy, Department of Energy.

ACTION: Notice of orders.

| FE Docket Nos.
STABILIS ENERGY SERVICES LLC | 14-84-LNG
MPOWER ENERGY LLC | 14-175-NG
TECHGEN S.A. DE C.V | 14-94-NG
ENI USA GAS MARKETING LLC | 14-201-LNG
CARGILL, INCORPORATED | 14-180-NG
MERRILL LYNCH COMMODITIES CANADA, ULC | 14-198-NG
IRVING OIL TERMINALS INC | 14-200-NG
CHENIERE MARKETING, LLC | 14-186-NG
TRANSALTA ENERGY MARKETING CORP | 14-202-NG
MANSFIELD POWER AND GAS, LLC | 15-01-NG
NORTH DAKOTA LNG, LLC | 14-203-LNG
GAS NATURAL PUERTO RICO, INC | 14-205-LNG
JD IRVING LIMITED | 14-207-NG
MARITIMES NG SUPPLY LIMITED PARTNERSHIP | 14-208-NG
DYNEGY MARKETING AND TRADE, LLC | 15-06-NG
SOCIETE GENERALE ENERGY LLC | 14-08-NG
SEMPRA LNG MARKETING, LLC | 14-177-LNG

SUMMARY: The Office of Fossil Energy (FE) of the Department of Energy gives notice that during January 2015, it issued orders granting authority to import and export natural gas (NG), to import and export liquefied natural gas (LNG), amending authorization, and errata. These orders are summarized in the attached appendix and may be found on the FE Web site at http://energy.gov/fe/downloads/listing-doefe-authorizationsorders-issued-2015. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 28, 2015.
John A. Anderson,
Director, Office of Oil and Gas Global Security and Supply, Office of Oil and Natural Gas.

Appendix—DOE/FE Orders Granting Import/Export Authorizations
Errata | 01/05/15 | 14-84-LNG | Stabilis Energy Services | Modification to include Agency Rights.
Errata | 01/08/15 | 14-175-NG | MPower Energy LLC | Modification to increase requested authority.
Errata | 01/08/15 | 14-94-NG | Techgen S.A. de C.V | Amending authorization.
3574 | 01/15/15 | 14-201-LNG | ENI USA Gas Marketing LLC | Order granting blanket authority to import LNG from various international sources by vessel.
3575 | 01/08/15 | 14-180-NG | Cargill, Incorporated | Order granting blanket authority to import/export natural gas from/to Canada/Mexico, to import LNG from Canada/Mexico by truck, to export LNG to Canada/Mexico by vessel, and to import LNG from various sources by vessel.
3576 | 01/08/15 | 14-198-NG | Merrill Lynch Commodities Canada, ULC | Order granting blanket authority export natural gas to Canada.
3577 | 01/08/15 | 14-200-NG | Irving Oil Terminals Inc | Order granting blanket authority to export natural gas to Canada.
3578 | 01/08/15 | 14-186-NG | Cheniere Marketing, LLC | Order granting blanket authority to import/export natural gas from/to Canada/Mexico, to export LNG to Canada/Mexico, and to import LNG from various international sources.
3579 | 01/15/15 | 14-202-NG | TransAlta Energy Marketing Corp | Order granting blanket authority to import/export natural gas from/to Canada.
3580 | 01/15/15 | 15-01-NG | Mansfield Power and Gas, LLC | Order granting blanket authority to import/export natural gas from/to Mexico.
3581 | 01/29/15 | 14-203-LNG | North Dakota LNG, LLC | Order granting blanket authority to export LNG to Canada by truck.
3582 | 01/29/15 | 14-205-LNG | Gas Natural Puerto Rico, Inc | Order granting blanket authority to import LNG from various international sources by vessel.
3583 | 01/29/15 | 14-207-NG | JD Irving Limited | Order granting blanket authority to export natural gas to Canada.
3584 | 01/29/15 | 14-208-NG | Maritimes NG Supply Limited Partnership | Order granting blanket authority to export natural gas to Canada.
3585 | 01/29/15 | 15-06-NG | Dynegy Marketing and Trade LLC | Order granting blanket authority import/export natural gas from/to Canada.
3586 | 01/29/15 | 14-08-NG | Societe Generale Energy LLC | Order granting blanket authority to Import/Export Natural Gas from/to Canada/Mexico, to Import LNG from Canada/Mexico by Truck, to Export LNG to Canada/Mexico by Vessel/Truck, and to Import LNG from Various Sources by Vessel.
3587 | 01/30/15 | 14-177-LNG | Sempra LNG Marketing, LLC | Order granting blanket authority to export Previously Imported LNG by vessel.

[FR Doc. 2015-25227 Filed 10-2-15; 8:45 am]

BILLING CODE 6450-01-P